DEPARTMENT OF THE INTERIOR

Geological Survey

[GX23DJ73UAC1000; OMB Control Number 1028-NEW]

Agency Information Collection Activities: Science and Data for Water-Hazards Response

AGENCY: U.S. Geological Survey, Department of Interior.

ACTION: Notice of Information Collection; request for comments

SUMMARY: In accordance with the Paperwork Reduction Act of 1995 (PRA), the U.S. Geological Survey (USGS) is proposing a new information collection.

DATES: Interested persons are invited to submit comments on or before April 11, 2024.

ADDRESSES: Written comments and recommendations for the proposed information collection should be sent within 30 days of publication of this notice to www.reginfo.gov/public/do/PRAMain. Find this particular information collection by selecting “Currently under 30-day Review—Open for Public Comments” or by using the search function. Please provide a copy of your comments by mail to USGS, Information Collections Officer, 12201 Sunrise Valley Drive MS 159, Reston, VA 20192 or by email to gs-info_collections@usgs.gov. Please reference OMB Control Number 1028-NEW Science and Data for Water-Hazards in the subject line of your comments.

FOR FURTHER INFORMATION CONTACT: To request additional information about this Information Collection Request (ICR), contact Jennifer Rapp by email at jrapp@usgs.gov or by telephone at 804-261-2635. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 23, 2023 (88 FR 41124). No comments were received.

As part of our continuing effort to reduce paperwork and respondent burdens, we are again soliciting comments from the public and other federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The United States is facing growing challenges related to water availability and quality due to shifting demographics, aging water-delivery infrastructure, the impacts of climate change, and increasing hazards risks, like those posed by floods and drought. Working with incomplete knowledge, managers must consider the needs of various demographic groups and economic sectors when making management decisions and responding to emergencies. To improve delivery of effective science to support decision-making, the USGS must adapt to meet the evolving needs of stakeholders in the water-hazard space. We will collect information regarding the decision-making process and scientific information and data needs to support daily, long-term, and emergency management decision-making. A lack of decision-support data within water institutions can lead to poor decision-making and outcomes that may increase the risk to life, property, and environmental health resulting from a hazard event. This information will support the delivery of appropriate data, in appropriate formats, at the right time for decision-making and emergency management. The information will guide USGS support of water-resource institutions, enhancing resilience in the face of the Nation's many water-resources challenges.

Title of Collection: Science and Data for Water-Hazards Response.

OMB Control Number: 1028-NEW.

Form Number: None.

Type of Review: New.

Respondents/Affected Public: State and local water-resource managers and water-hazard responders; Tribal Nations and Tribal Serving Organizations; and non-governmental organizations and community groups that use water-hazard information.

State and Local Water Resource Managers and Responders:

Estimated Number of Annual Responses: 650.

Estimated Completion Time per Response: 1 hour.

Estimated Number of Annual Burden Hours: 650.

Respondent's Obligation: Voluntary.

Frequency of Collection: Once per year.

Estimated Annual Nonhour Burden Cost: None.

Tribal Nations and Tribal Serving Organizations:

Estimated Number of Annual Responses: 200.

Estimated Completion Time per Response: 1 hour.

Estimated Number of Annual Burden Hours: 200.

Respondent's Obligation: Voluntary.

Frequency of Collection: Once per year.

Estimated Annual Nonhour Burden Cost: None.

Non-governmental Organizations and Community Groups:

Estimated Number of Annual Responses: 150.

Estimated Completion Time per Response: 1 hour.

Estimated Number of Annual Burden Hours: 150.

Respondent's Obligation: Voluntary.

Frequency of Collection: Once per year.

Estimated Annual Nonhour Burden Cost: None.

Total Estimated Number of Annual Responses: 1,000.

Total Estimated Number of Annual Burden Hours: 1,000.

Total Estimated Annual Nonhour Burden Cost: None.

An agency may not conduct or sponsor, nor is a person required to respond to, a collection of information unless it displays a currently valid OMB control number.

The authority for this action is the PRA (44 U.S.C. 3501 et seq).

Joseph Nielsen,
Director, Integrated Information Dissemination Division, USGS Water Resources Mission Area.

[FR Doc. 2024-05214 Filed 3-11-24; 8:45 am]

BILLING CODE 4388-11-P